FEDERAL COMMUNICATIONS COMMISSION

47 CFR Parts 1 and 80

[PR Docket No. 92-257; RM-9664; FCC 02-74]

Maritime Communications

AGENCY: Federal Communications Commission.

ACTION: Final rule.

SUMMARY: In this document, the Commission adopts rules that will streamline our licensing process for Automated Maritime Telecommunications System (AMTS) stations by utilizing a geographic area licensing system. With respect to high seas spectrum, the Commission will now process applications on a first-come, first-served basis, thereby precluding the filing of mutually exclusive applications and thus, the need to use competitive bidding procedures. The Commission believes that these decisions will increase competition in the provision of telecommunications services, promote more efficient use of maritime spectrum, increase the types of telecommunications services available to vessel operators, allow maritime commercial mobile radio service (CMRS) providers to respond more quickly to market demand, and reduce regulatory burdens on AMTS and high seas public coast station licensees.

EFFECTIVE DATE: Effective August 26, 2002.

FOR FURTHER INFORMATION CONTACT: Keith Fickner, Policy and Rules Branch, Public Safety and Private Wireless Division, Wireless Telecommunications Bureau at (202) 418-7308.

SUPPLEMENTARY INFORMATION: The Commission's Second Memorandum Opinion and Order and Fifth Report and Order, PR Docket No. 92-257, FCC 02-74, was adopted March 13, 2002, and released on April 8, 2002. The full text of this Commission's Second Memorandum Opinion and Order and Fifth Report and Order is available for inspection and copying during normal business hours in the FCC Reference Center, Room CY-A257, 445 12th Street, SW., Washington, DC. The complete text may be purchased from the Commission's copy contractor, International Transcription Service, Inc., 1231 20th Street NW., Washington, DC 20037. The full text may also be downloaded at: http://www.fcc.gov/Wireless/Orders/2002/fcc0274.txt. Alternative formats are available to persons with disabilities by contacting Martha Contee at (202) 418-0260 or TTY (202) 418-2555.

Summary of the Second Memorandum Opinion and Order

1. The Commission resolves a petition for reconsideration of the suspension of acceptance of applications for new AMTS and HF radiotelephone high seas public coast stations that went into effect on November 16, 2000. The Commission states that it believes that suspension of acceptance and processing of AMTS applications is warranted in order to facilitate the orderly and effective resolution of the matters pending in this proceeding. By maintaining the processing suspension, it states that it will be able to weigh the costs and benefits of the existing regulatory framework against its proposals.

2. The Commission also resolves a petition for declaratory ruling regarding section 309 of the Communications Act. The Commission states that sections 309(d)(2) and (e) do not restrict its authority to dismiss an AMTS application that, as of November 16, 2000, was mutually exclusive with other applications or for which the relevant period to file mutually exclusive applications had not expired. The Commission also rejects the petitioner's argument that in instances where a petition to deny was filed against one or more mutually exclusive applications that were subject to the processing suspension, section 309(j)(6)(E) requires the Commission to first address the petition to deny because a grant of the petition could resolve the mutual exclusivity, thus enabling the surviving application(s) to be processed. The Commission states that section 309(j)(6)(E) merely requires that it take certain measures, when it is in the public interest, to avoid mutual exclusivity within the framework of existing, not outmoded, licensing policies.

Summary of the Fifth Report and Order

3. The Commission concludes that the public interest will be best served by a transition to geographic area licensing for AMTS spectrum. Such an approach will speed assignment of subsequent AMTS licenses, reduce processing burdens on the Commission, facilitate the expansion of existing AMTS systems and the development of new AMTS systems, eliminate inefficiencies arising from the intricate web of relationships created by site-specific authorization, and enhance regulatory symmetry.

4. The Commission adopts a 10 dB co-channel interference protection standard because it will afford AMTS incumbents with sufficient protection. The Commission believes that 10 dB protection to an incumbent's 38 dBu service contour (the standard used in the 220-222 MHz band) provides the incumbent with sufficient protection from potential interference. On the other hand, it believes that an overly conservative co-channel interference protection standard, such as 18 dB, would be spectrally inefficient because it would prevent geographic licensees from using AMTS spectrum in areas that could be served without harm to other licensees.

5. The Commission concludes that AMTS geographic licensees should be permitted to operate at a 38 dBu field strength at the geographic boundaries. This is the standard used in the 220-222 MHz band. To require a lower field strength might unnecessarily restrict AMTS licensees ability to provide quality service to mobile units operating in boundary areas.

6. The Commission concludes that the requirement that AMTS stations must serve a waterway is inconsistent with geographic licensing. It believes that requiring AMTS stations to serve coastlines or sizable navigable inland waterways could prevent service from being offered in some licensing areas. Therefore, it will permit a licensee to place stations anywhere within its service area so long as marine-originating traffic is given priority and incumbent operations are protected. However, licensees whose service areas include certain major waterways will be required to provide coverage to those waterways.

7. The Commission concludes that an AMTS geographic area licensee should be permitted to acquire both AMTS frequency blocks in the same geographic area. It believes that limiting bidders to one channel block could impede vigorous competitive bidding. Moreover, when it considers that there are already competing commercial mobile radio service (CMRS) providers, such as VPC and 220-222 MHz, it believes that allowing one applicant to acquire both AMTS channel blocks in the same geographic area will not have anti-competitive consequences for the public.

8. The Commission concludes that AMTS licensees should be required to make a substantial service showing only at the time of license renewal. It believes that requiring substantial service at the time of license renewal (ten years) will ensure efficient use of AMTS spectrum, as well as expeditious provision of service to the public. This standard also is consistent with other geographic area license services.

9. The Commission concludes that it is in the public interest to modify its current licensing procedures for assigning high seas public coast spectrum by requiring applications to be processed on a first-come, first-served basis, thereby precluding the filing of mutually exclusive applications and thus, the need to use competitive bidding procedures. The Commission believes that the extensive international coordination requirements of high seas spectrum as well as the need to conform to the changing allocations and allotments instituted by the World Radio Conference, makes it an inappropriate spectrum band for license grant via competitive bidding.

10. The Commission concludes that Medium Frequency (MF) private coast stations should be permitted to use unassigned public coast station radiotelephone frequency pairs in the 2 MHz band for non-CMRS services. It believes that permitting private coast stations to share 2 MHz public correspondence frequencies will promote the more efficient use of maritime spectrum and will reduce congestion for MF private coast licensees.

Final Regulatory Flexibility Analysis

11. As required by the Regulatory Flexibility Act (RFA),¹ an Initial Regulatory Flexibility Analysis (IRFA) was incorporated into the Third Further Notice of Proposed Rule Making in this proceeding. The Commission sought written public comment on the IRFA. The present Final Regulatory Flexibility Analysis (FRFA) conforms to the RFA.²

¹ See 5 U.S.C. 603. The RFA, see 5 U.S.C. 601 et seq., has been amended by the Contract With America Advancement Act of 1996, Public Law No. 104-121, 110 Stat. 847 (1996) (CWAAA). Title II of the CWAAA is the Small Business Regulatory Enforcement Fairness Act of 1996 (SBREFA).

² See 5 U.S.C. 604.

A. Need for, and Objectives of, the Fifth Report and Order

12. Our objective is to simplify our licensing process for AMTS stations. Specifically, this action will: (1) Convert licensing of AMTS station spectrum from site-by-site licensing to geographic area licensing, (2) simplify and streamline the AMTS spectrum licensing procedures and rules, (3) increase licensee flexibility to provide communication services that are responsive to dynamic market demands, and (4) introduce market-based forces into the Maritime Services by using competitive bidding procedures (auctions) to resolve mutually exclusive applications for AMTS spectrum. We find that these actions will increase the number and types of communications services available to the maritime community and improve the safety of life and property at sea, and that the potential benefits to the maritime community exceed any negative effects that may result from the promulgation of rules for this purpose. Thus, we conclude that the public interest is served by amending our rules as described above.

B. Summary of Significant Issues Raised by Public Comments in Response to the IRFA

13. No comments were submitted in response to the IRFA. However, Mobex Communications, Inc., a commenter to the Third Further Notice of Proposed Rulemaking, suggested that we allow applicants to exclude operating revenues from activities which have been discontinued more than one year prior to the filing of the short form application when determining the average gross revenues for the preceding three years. The Commission carefully considered this comment when reaching the decision that it was in the public interest that such revenues continue to be included in the calculation of average gross revenues, because the inclusion of such revenues will help provide an accurate and equitable measure of the size of a business and whether that business is truly eligible for small business bidding credits.

C. Description and Estimate of the Number of Small Entities to Which Rules Will Apply

14. The RFA directs agencies to provide a description of and, where feasible, an estimate of the number of small entities that may be affected by the proposed rules, if adopted.³ The RFA generally defines the term “small entity” as having the same meaning as the terms “small business,” “small organization,” and “small governmental jurisdiction.”⁴ In addition, the term “small business” has the same meaning as the term “small business concern” under the Small Business Act.⁵ A small business concern is one which: (1) Is independently owned and operated; (2) is not dominant in its field of operation; and (3) satisfies any additional criteria established by the Small Business Administration (SBA).⁶ A small organization is generally “any not-for-profit enterprise which is independently owned and operated and is not dominant in its field.”⁷

³ 5 U.S.C. 603(b)(3).

⁴ 5 U.S.C. 601(6).

⁵ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁶ Small Business Act, 15 U.S.C. 632 (1996).

⁷ 5 U.S.C. 601(4).

15. The rules adopted herein will affect licensees using AMTS and high seas public coast spectrum. In the Third Report and Order in this proceeding, the Commission defined the term “small entity” specifically applicable to public coast station licensees as any entity employing fewer than 1,500 persons, based on the definition under the Small Business Administration rules applicable to radiotelephone service providers.⁸ Since the size data provided by the Small Business Administration does not enable us to make a meaningful estimate of the number of AMTS and high seas public coast station licensees that are small businesses, and no commenters responded to our request for information regarding the number of small entities that use or are likely to use public coast spectrum, we have used the 1992 Census of Transportation, Communications, and Utilities, conducted by the Bureau of the Census, which is the most recent information available. This document shows that only 12 radiotelephone firms out of a total of 1,178 such firms that operated in 1992 had 1,000 or more employees. There are three AMTS public coast station licensees and approximately thirteen high seas public coast station licensees. Based on the rules adopted herein, it is unlikely that more than seven licensees will be authorized in the future. Therefore, for purposes of our evaluations and conclusions in this FRFA, we estimate that there are approximately twenty-three AMTS and high seas public coast station licensees that are small businesses, as that term is defined by the Small Business Administration.

⁸ See Amendment of the Commission's Rules Concerning Maritime Communications, Third Report and Order and Memorandum Opinion and Order, 13 FCC Rcd 19853, 19893 (1998) (citing 13 CFR 121.201, Standard Industrial Classification (SIC) Code 4812 (now North American Industry Classification System (NAICS) Code 513322)).

D. Description of Projected Reporting, Recordkeeping, and Other Compliance Requirements

16. All small businesses that choose to participate in the competitive bidding for these services will be required to demonstrate that they meet the criteria set forth to qualify as small businesses, as required under part 1, subpart Q of the Commission's Rules, 47 CFR part 1, subpart Q. Any small business applicant wishing to avail itself of small business provisions will need to make the general financial disclosures necessary to establish that the business is in fact small. Prior to auction, each small business applicant will be required to submit an FCC Form 175, OMB Clearance Number 3060-0600. The estimated time for filling out an FCC Form 175 is 45 minutes.

17. In addition to filing an FCC Form 175, each applicant will have to submit information regarding the ownership of the applicant, any joint venture arrangements or bidding consortia that the applicant has entered into, and financial information demonstrating that a business wishing to qualify for installment payments and bidding credits is a small business.

18. Applicants that do not have audited financial statements available will be permitted to certify to the validity of their financial showings. While many small businesses have chosen to employ attorneys prior to filing an application to participate in an auction, the rules are intended to enable a small business working with the information in a bidder information package to file an application on its own.

19. When an applicant wins a license, it will be required to submit an FCC Form 601, which will require technical information regarding the applicant's proposals for providing service. This application will require information provided by an engineer who will have knowledge of the system's design. The estimated time for completing an FCC Form 601 is one hour and fifteen minutes.

E. Steps Taken To Minimize Significant Economic Impact on Small Entities, and Significant Alternatives Considered

20. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

21. The Commission in this proceeding has considered comments on implementing broad changes to the maritime service rules. It has adopted alternatives which minimize burdens placed on small entities. It has decided to adopt for AMTS the small business provisions that were adopted in the auction of VHF public coast spectrum. Specifically, the Commission has concluded that AMTS small businesses will receive a bidding credit of 25 percent and very small businesses will receive a bidding credit of 35 percent. It has defined small businesses as those entities, together with their affiliates and controlling interests, with not more than fifteen million dollars in average gross revenues for the preceding three years, and very small businesses as those entities, together with their affiliates and controlling interests, with not more than three million dollars in average gross revenues for the preceding three years.⁹

⁹ These small business size standards have been approved by the U.S. Small Business Administration, pursuant to Section 3 of the Small Business Act. See Letter from Aida Alvarez, Administrator, Small Business Administration, to Margaret W. Wiener, Chief, Auctions and Industry Analysis Division, Wireless Telecommunications Bureau, Federal Communications Commission (dated November 3, 2000) (approving size standards for AMTS and high seas public coast services); see also 15 U.S.C. 632(a)(2) (establishment of size standards by federal agencies); 13 CFR 121.90(b) (promulgation of special size standards by federal agencies).

22. The Commission considered and rejected several significant alternatives. It rejected the Mobex Communications, Inc. request that we allow applicants to exclude operating revenues from activities which have been discontinued more than one year prior to the filing of the short form application when determining the average gross revenues for the preceding three years. This was rejected because it could encourage bad business practices by large businesses that are designed to circumvent the Commission's small business provisions for the purpose of becoming eligible for bidding credits. The Commission also rejected the proposal that AMTS geographic area licensees be required to provide substantial service to their service areas within five years. Instead, the Commission has adopted a requirement that AMTS licensees provide substantial service within ten years, i.e., at the time of license renewal. The ten-year substantial service requirement should prove to be less burdensome on small businesses than a five-year benchmark.

23. Report to Congress: The Commission will send a copy of the Fifth Report and Order, including this FRFA, in a report to be sent to Congress pursuant to the Congressional Review Act.¹⁰ In addition, the Commission will send a copy of the Fifth Report and Order, including this FRFA, to the Chief Counsel for Advocacy of the Small Business Administration. In addition, the Fifth Report and Order and FRFA (or summaries thereof) will be published in the Federal Register.¹¹

¹⁰ See 5 U.S.C. 801(a)(1)(A).

¹¹ See 5 U.S.C. 604(b).

24. The Commission's Consumer Information Bureau, Reference Information Center, shall send a copy of this Fifth Report and Order, including the Final Regulatory Flexibility Analysis, to the Chief Counsel for Advocacy of the Small Business Administration.

List of Subjects in 47 CFR Parts 1 and 80

Communications equipment, Radio.

Federal Communications Commission.
Marlene H. Dortch,
Secretary.

Final Rules

For the reasons discussed in the preamble, The Federal Communications Commission amends 47 CFR parts 1 and 80 as follows:

PART 1—PRACTICE AND PROCEDURE

1. The authority citation for Part 1 continues to read as follows:

Authority: 47 U.S.C. 151, 154(i), 154(j), 155, 225, 303(r), 309 and 325(e).

2. Section 1.227 is amended by revising paragraph (b)(4) to read as follows:

§ 1.227 Consolidations.

* * * * *

(b) * * *

(4) This paragraph applies when mutually exclusive applications subject to section 309(b) of the Communications Act and not subject to competitive bidding procedures pursuant to § 1.2102 of this chapter are filed in the Private Radio Services, or when there are more such applications for initial licenses than can be accommodated on available frequencies. Except for applications filed under part 101, subparts H and O, Private Operational Fixed Microwave Service, and applications for high seas public coast stations (see §§ 80.122(b)(1) (first sentence), 80.357, 80.361, 80.363(a)(2), 80.371(a), (b), and (d), and 80.374 of this chapter) mutual exclusivity will occur if the later application or applications are received by the Commission's offices in Gettysburg, PA (or Pittsburgh, PA for applications requiring the fees set forth at part 1, subpart G of the rules) in a condition acceptable for filing within 30 days after the release date of public notice listing the first prior filed application (with which subsequent applications are in conflict) as having been accepted for filing or within such other period as specified by the Commission. For applications in the Private Operational Fixed Microwave Service, mutual exclusivity will occur if two or more acceptable applications that are in conflict are filed on the same day. Applications for high seas public coast stations will be processed on a first come, first served basis, with the first acceptable application cutting off the filing rights of subsequent, conflicting applications. Applications for high seas public coast stations received on the same day will be treated as simultaneously filed and, if granting more than one would result in harmful interference, must be resolved through settlement or technical amendment.

* * * * *

PART 80—STATIONS IN THE MARITIME SERVICES

3. The authority citation for Part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

4. Section 80.49 is amended by revising paragraph (a)(3) to read as follows:

§ 80.49 Construction and regional service requirements.

(a) * * *

(3) Each AMTS coast station geographic area licensee must make a showing of substantial service within its service area within ten years of the initial license grant, or the authorization becomes invalid and must be returned to the Commission for cancellation. “Substantial” service is defined as service which is sound, favorable, and substantially above a level of mediocre service which just might minimally warrant renewal. For site-based AMTS coast station licensees, when a new license has been issued or additional operating frequencies have been authorized, if the station or frequencies authorized have not been placed in operation within two years from the date of the grant, the authorization becomes invalid and must be returned to the Commission for cancellation.

* * * * *

5. Section 80.60 is amended by revising paragraphs (a) and (b)(2) and adding paragraph (d)(3) to read as follows:

§ 80.60 Partitioned licenses and disaggregated spectrum.

(a) Eligibility. The following licensees may partition their service areas or disaggregate their spectrum. Parties seeking approval for partitioning and disaggregation shall request an authorization for partial assignment pursuant to § 1.948 of this chapter.

(1) VHF Public Coast area licensees, see § 80.371(c)(1)(ii), may partition their geographic service area or disaggregate their spectrum pursuant to the procedures set forth in this section.

(2) AMTS geographic area licensees, see § 80.385(a)(3), may partition their geographic service area or disaggregate their spectrum pursuant to the procedures set forth in this section. Site-based AMTS public coast station licensees may partition their license or disaggregate their spectrum pursuant to the procedures set forth in this section, provided that the partitionee or disaggregatee's predicted 38 dBu signal level contour does not extend beyond the partitioner or disaggregator's predicted 38 dBu signal level contour. The predicted 38 dBu signal level contours shall be calculated using the F(50, 50) field strength chart for Channels 7-13 in § 73.699 (Fig. 10) of this chapter, with a 9 dB correction for antenna height differential.

(3) Nationwide or multi-region LF, MF, and HF public coast station licensees, see §§ 80.357(b)(1), 80.361(a), 80.363(a)(2), 80.371(b), and 80.374, may partition their spectrum pursuant to the procedures set forth in this section, except that frequencies or frequency pairs licensed to more than one licensee as of March 13, 2002 may be partitioned only by the earliest licensee, and only on the condition that the partitionee shall operate on a secondary, non-interference basis to stations licensed as of March 13, 2002 other than the earliest licensee. Coordination with government users is required for partitioning of spectrum the licensing of which is subject to coordination with government users.

(b) * * *

(2) Disaggregation. VHF (156-162 MHz) spectrum may only be disaggregated according to frequency pairs. AMTS spectrum may be disaggregated in any amount.

* * * * *

(d) * * *

(3) Site-based AMTS, and nationwide or multi-region LF, MF, and HF public coast. Parties seeking to acquire a partitioned license or disaggregated spectrum from a site-based AMTS, or nationwide or multi-region LF, MF, and HF public coast licensee will be required to construct and commence “service to subscribers” in all facilities acquired through such transactions within the original construction deadline for each facility as set forth in § 80.49. Failure to meet the individual construction deadline will result in the automatic termination of the facility's authorization.

6. Section 80.70 is amended by revising the section heading and paragraph (c) to read as follows:

§ 80.70 Special conditions relative to coast station VHF facilities.

* * * * *

(c) A VHF (156-162 MHz) public coast licensee initially authorized on any of the channels listed in the table in § 80.371(c)(1), or an AMTS licensee initially authorized on any of the channel blocks listed in the table in § 80.385(a)(2), may transfer or assign its channel(s), or channel block(s), to another entity. If the proposed transferee or assignee is the geographic area licensee for the geographic area to which the frequency block is allocated, such transfer or assignment will be deemed to be in the public interest. However, such presumption will be rebuttable.

7. Section 80.122 is amended by revising paragraph (b)(1) to read as follows:

§ 80.122 Public coast stations using facsimile and data.

* * * * *

(b) * * *

(1) Frequencies in the 2000-27500 kHz bands in part 2 of this chapter as available for shared use by the maritime mobile service and other radio services are assignable to public coast stations for providing facsimile communications with ship stations. Additionally, frequencies in the 156-162 MHz and 216-220 MHz bands available for assignment to public coast stations for radiotelephone communications that are contained in subpart H of this part are also available for facsimile and data communications.

* * * * *

8. Section 80.153 is amended by revising paragraph (a), removing paragraphs (b) and (c)(1), and redesignating paragraph (c)(2) as paragraph (b), to read as follows:

§ 80.153 Coast station operator requirements.

(a) Except as provided in § 80.179, operation of a coast station transmitter must be performed by a person who is on duty at the control point of the station. The operator is responsible for the proper operation of the station.

* * * * *

9. Section 80.207 is amended by revising the table entries for 216-220 MHz in paragraph (d) to read as follows:

§ 80.207 Classes of emission.

* * * * *

(d) * * *

Types of stations | Classes of emission
Ship Stations ¹
Radiotelegraphy:
* * * * * * *
216-220 MHz ³ | F1B, F2B, F2C, F3C, F1D, F2D
* * * * * * *
Land Stations ¹
Radiotelegraphy:
* * * * * * *
216-220 MHz ³ | F1B, F2B, F2C, F3C, F1D, F2D
* * * * * * *
¹ Excludes distress, EPIRBs, survival craft, and automatic link establishment.
* * * * * * *
³ Frequencies used in the Automated Maritime Telecommunications System (AMTS). See § 80.385(b).
* * * * * * *

10. Section 80.215 is amended by revising paragraph (h)(3)(i) to read as follows:

§ 80.215 Transmitter power.

* * * * *

(h) * * *

(3) * * *

(i) Shows that the proposed site is the only suitable location (which, at the application stage, requires a showing that the proposed site is especially well-suited to provide the proposed service);

* * * * *

11. Section 80.357 is amended by revising paragraph (b)(1) to read as follows:

§ 80.357 Morse code working frequencies.

* * * * *

(b) Coast station frequencies.—(1) Frequencies in the 100-27500 kHz band. The following table describes the working carrier frequencies in the 100-27500 kHz band which are assignable to coast stations located in the designated geographical areas. The exclusive maritime mobile HF bands listed in the table contained in § 80.363(b) of this part are also available for assignment to public coast stations for A1A or J2A radiotelegraphy following coordination with government users. With respect to frequencies that are assignable in more than one geographical area, once the frequency is assigned to one licensee, any subsequent license will be authorized on a secondary, non-interference basis with respect to the incumbent license's existing operation. If the first licensee later seeks authorization to operate in an additional geographic area, such authorization will be on a secondary, non-interference basis to other co-channel licensees.

* * * * *

12. Section 80.371 is amended by revising the entries to the table and footnote 1 and adding footnotes 4 and 5 in paragraph (a), and by (b) introductory text, revising paragraphs (c)(1)(ii) and (c)(4) to read as follows:

§ 80.371 Public correspondence frequencies.

(a) * * *

Working Frequency Pairs in the 2000-4000 kHz Band
Region | Carrier frequencies (kHz): Ship transmit | Carrier frequencies (kHz): Coast transmit
East Coast: | * * * | * * *
| 2118.0 | ¹ 12514.0
| * * * | * * *
| 2382.0 | ⁵ 2482.0
| * * * | * * *
| 2406.0 | ⁴ 2506.0
West Coast: | * * * | * * *
| 2430.0 | ⁵ 2482.0
Gulf Coast: | * * * | * * *
| ¹ 2158.0 | ¹2550.0
| * * * | * * *
| 2382.0 | ⁵ 2482.0
* * * * *
Alaska | 2131.0 | ⁵ 2309.0
* * * * *
¹ Unlimited hours of use from December 15 to April 1 and day only from April 1 to December 15. Harmful interference must not be caused to any station in the Great Lakes region.
* * * * *
⁴ Harmful interference must not be caused to any coast station in the Caribbean region.
⁵ But see section 80.373(c)(3) of this chapter.

(b) Working frequencies in the 4000-27500 kHz band. This paragraph describes the working carrier frequencies in the 4000-27500 kHz band. With respect to frequencies that are assignable in more than one geographical area, once the frequency is assigned to one licensee, any subsequent license will be authorized on a secondary, non-interference basis with respect to the incumbent license's existing operation. If the first licensee later seeks authorization to operate in an additional geographic area, such authorization will be on a secondary, non-interference basis to other co-channel licensees.

* * * * *

(c) * * *

(1) * * *

(ii) Service areas in the marine VHF 156-162 MHz band are VHF Public Coast Station Areas (VPCSAs). As listed in the table in this paragraph, VPCSAs are based on, and composed of one or more of, the U.S. Department of Commerce's 172 Economic Areas (EAs). See 60 FR 13114 (March 10, 1995). In addition, the Commission shall treat Guam and the Northern Mariana Islands, Puerto Rico and the United States Virgin Islands, American Samoa, and the Gulf of Mexico as EA-like areas 173-176, respectively. Maps of the EAs and VPCSAs are available for public inspection and copying at the Federal Communications Commission, Public Safety and Private Wireless Division, 445 12th St., SW., Room 4-C330, Washington, DC. Except as shown in the table, the frequency pairs listed in paragraph (c)(1)(i) of this section are available for assignment to a single licensee in each of the VPCSAs listed in the table in this paragraph. In addition to the listed EAs listed in the table in this paragraph, each VPCSA also includes the adjacent waters under the jurisdiction of the United States.

* * * * *

(4) Subject to the requirements of § 1.924 of this chapter and § 80.21, each VPCSA licensee may place stations anywhere within its region without obtaining prior Commission approval provided:

* * * * *

13. Section 80.373 is amended by adding paragraph (c)(3) to read as follows:

§ 80.373 Private communications frequencies.

* * * * *

(c) * * *

(3) In addition to the frequencies shown in paragraph (c)(1) of this section, the following coast transmit frequencies listed in the table in § 80.371(a) of this chapter are available for assignment to private coast stations and authorized ship stations for simplex business and operational radiotelephone communications: in the East Coast, West Coast, and Gulf Coast regions, 2482 kHz; in the Alaska region, 2309 kHz. These frequencies shall not be assigned to public coast stations before July 25, 2002. After that date, only the above frequencies in the above regions that have been assigned to at least one private coast station shall continue to be available for assignment to private coast stations. If, by that date, in any of the above regions, any of the above frequencies has not been assigned to a private coast station, that frequency in that region shall be available for assignment only to public coast stations.

* * * * *

14. Section 80.385 is amended by revising paragraphs (a)(2) and (b), redesignating paragraph (a)(3) as paragraph (a)(4) and paragraph (c) as (d), and adding new paragraphs (a)(3) and (c) to read as follows:

§ 80.385 Frequencies for automated systems.

* * * * *

(a) * * *

(2) The following carrier frequencies are available for assignment to public coast stations for public correspondence communications with ship stations and units on land. AMTS operations must not cause harmful interference to the U.S. Navy SPASUR system which operates in the band 216.880-217.080 MHz.

Channel No. | Carrier frequency (MHz): Ship transmit¹,³ | Carrier frequency (MHz): Coast transmit² | Carrier frequency (MHz): Group
101 |  | 216.0125 | D
102 |  | 216.0375 |
103 |  | 216.0625 |
104 |  | 216.0875 |
105 |  | 216.1125 |
106 |  | 216.1375 |
107 |  | 216.1625 |
108 |  | 216.1875 |
109 |  | 216.2125 |
110 |  | 216.2375 |
111 |  | 216.2625 |
112 |  | 216.2875 |
113 |  | 216.3125 |
114 |  | 216.3375 |
115 |  | 216.3625 |
116 |  | 216.3875 |
117 |  | 216.4125 |
118 |  | 216.4375 |
119 |  | 216.4625 |
120 |  | 216.4875 |
121 |  | 216.5125 | C
122 |  | 216.5375 |
123 |  | 216.5625 |
124 |  | 216.5875 |
125 |  | 216.6125 |
126 |  | 216.6375 |
127 |  | 216.6625 |
128 |  | 216.6875 |
129 |  | 216.7125 |
130 |  | 216.7375 |
131 |  | 216.7625 |
132 |  | 216.7875 |
133 |  | 216.8125 |
134 |  | 216.8375 |
135 |  | 216.8625 |
136 |  | 216.8875 |
137 |  | 216.9125 |
138 |  | 216.9375 |
139 |  | 216.9625 |
140 | 219.0125 | 216.9875 |
141 | 219.0375 | 217.0125 | B
142 | 219.0625 | 217.0375 |
143 | 219.0875 | 217.0625 |
144 | 219.1125 | 217.0875 |
145 | 219.1375 | 217.1125 |
146 | 219.1625 | 217.1375 |
147 | 219.1875 | 217.1625 |
148 | 219.2125 | 217.1875 |
149 |  | 217.2125 |
150 | 219.2375 | 217.2375 |
151 | 219.2625 | 217.2625 |
152 | 219.2875 | 217.2875 |
153 | 219.3125 | 217.3125 |
154 | 219.3375 | 217.3375 |
155 | 219.3625 | 217.3625 |
156 | 219.3875 | 217.3875 |
157 | 219.4125 | 217.4125 |
158 | 219.4375 | 217.4375 |
159 | 219.4625 | 217.4625 |
160 | 219.4875 | 217.4875 |
161 | 219.5125 | 217.5125 | A
162 | 219.5375 | 217.5375 |
163 | 219.5625 | 217.5625 |
164 | 219.5875 | 217.5875 |
165 | 219.6125 | 217.6125 |
166 | 219.6375 | 217.6375 |
167 | 219.6625 | 217.6625 |
168 | 219.6875 | 217.6875 |
169 | 219.7125 | 217.7125 |
170 | 219.7375 | 217.7375 |
171 | 219.7625 | 217.7625 |
172 | 219.7875 | 217.7875 |
173 | 219.8125 | 217.8125 |
174 | 219.8375 | 217.8375 |
175 | 219.8625 | 217.8625 |
176 | 219.8875 | 217.8875 |
177 | 219.9125 | 217.9125 |
178 | 219.9375 | 217.9375 |
179 | 219.9625 | 217.9625 |
180 | 219.9875 | 217.9875 |
¹ Ship transmit frequencies in Groups C and D are not authorized for AMTS use.
² Coast station operation on frequencies in Groups C and D are not currently assignable and are shared on a secondary basis with the Low Power Radio Service in part 95 of this chapter. Frequencies in the band 216.750-217.000 MHz band are available for low power point-to-point network control communications by AMTS coast stations under the Low Power Radio Service (LPRS). LPRS operations are subject to the conditions that no harmful interference is caused to the United States Navy's SPASUR radar system (216.88-217.08 MHz) or to TV reception within the Grade B contour of any TV channel 13 station or within the 68 dBu predicted contour of any low power TV or TV translator station operating on channel 13.
³ Ship transmit frequencies in Groups A and B are permitted to provide mobile-to-mobile communications where the written consent of all affected licensees is obtained.

(3) As listed in the table in this paragraph, AMTS Areas (AMTSAs) are based on, and composed of one or more of, the U.S Department of Commerce's 172 Economic Areas (EAs). See 60 FR 13114 (March 10, 1995). In addition, the Commission shall treat Puerto Rico, the United States Virgin Islands, and the Gulf of Mexico as EA-like areas. Maps of the EAs and AMTSAs are available for public inspection and copying at the Federal Communications Commission, Public Safety and Private Wireless Division, 445 12th Street, SW., Room 4-C330, Washington, DC. The Group A and B frequency pairs listed in the table in paragraph (a)(2) of this section are available for assignment to a single licensee in each of the AMTSAs listed in the table in this paragraph. In addition to the listed EAs listed in the table in this paragraph, each AMTSA also includes the adjacent waters under the jurisdiction of the United States.

AMTS Areas (AMTSAs)
AMTSAs | EAs
1 (Northern Atlantic) | 1-5, 10.
2 (Mid-Atlantic) | 9, 11-23, 25, 42, 46.
3 (Southern Atlantic) | 24, 26-34, 37, 38, 40, 41, 174.
4 (Mississippi River) | 35, 36, 39, 43-45, 47-53, 67-107, 113, 116-120, 122-125, 127, 130-134, 176.
5 (Great Lakes) | 6-8, 54-66, 108, 109.
6 (Southern Pacific) | 160-165.
7 (Northern Pacific) | 147, 166-170.
8 (Hawaii) | 172.
9 (Alaska) | 171.
10 (Mountain) | 110-112, 114-115, 121, 126, 128, 129, 135-146, 148-159.

* * * * *

(b) Subject to the requirements of § 1.924 of this chapter, §§ 80.215(h), and 80.475(a), each AMTS geographic area licensee may place stations anywhere within its region without obtaining prior Commission approval provided:

(1) The AMTS geographic area licensee must locate its stations at least 120 kilometers from the stations of co-channel site-based AMTS licensees. Shorter separations between such stations will be considered by the Commission on a case-by-case basis upon submission of a technical analysis indicating that at least 10 dB protection will be provided to an site-based licensee's predicted 38 dBu signal level contour. The site-based licensee's predicted 38 dBu signal level contour shall be calculated using the F(50, 50) field strength chart for Channels 7 through 13 in § 73.699 (Fig. 10) of this chapter, with a 9 dB correction for antenna height differential. The 10 dB protection to the site-based licensee's predicted 38 dBu signal level contour shall be calculated using the F(50, 10) field strength chart for Channels 7-13 in § 73.699 (Fig. 10a) of this chapter, with a 9 dB correction factor for antenna height differential.

(2) The locations and/or technical parameters of the transmitters are such that individual coordination of the channel assignment(s) with a foreign administration, under applicable international agreements and rules in this part, is not required.

(3) For any construction or alteration that would exceed the requirements of § 17.7 of this chapter, licensees must notify the appropriate Regional Office of the Federal Aviation Administration (FAA Form 7460-1) and file a request for antenna height clearance and obstruction marking and lighting specifications (FCC Form 854) with the FCC, Attn: Information Processing Branch, 1270 Fairfield Rd., Gettysburg, PA 17325-7245.

(4) The transmitters must not have a significant environmental effect as defined by §§ 1.1301 through 1.1319 of this chapter.

(c) Any recovered frequency blocks will revert automatically to the holder of the geographic area license within which such frequencies are included. Any frequency blocks recovered where there is no geographic area licensee will be retained by the Commission for future licensing.

* * * * *

15. Section 80.475 is amended by revising paragraph (a) to read as follows:

§ 80.475 Scope of service of the Automated Maritime Telecommunications System (AMTS).

(a) A separate Form 601 is not required for each coast station in a system. However, except as provided in § 80.385(b) and paragraph (b) of this section, the applicant must provide the technical characteristics for each proposed coast station, including transmitter type, operating frequencies, emissions, transmitter output power, antenna arrangement, and location.

* * * * *

16. Section 80.479 is revising paragraph (a) and adding paragraphs (b) and (c) to read as follows:

§ 80.479 Assignment and use of frequencies for AMTS.

(a) The frequencies assignable to AMTS stations are listed in subpart H of this part. These frequencies are assignable to ship and public coast stations for public correspondence communications.

(b) The transmissions from a station of an AMTS geographic area licensee may not exceed a predicted 38 dBu field strength at the geographic area border, unless all affected co-channel geographic area licensees agree to the higher field strength. The predicted 38 dBu field strength is calculated using the F(50, 50) field strength chart for Channels 7 through 13 in § 73.699 (Fig. 10) of this chapter, with a 9 dB correction factor for antenna height differential. Geographic area licensees must coordinate to minimize interference at or near their geographic area borders, and must cooperate to resolve any instances of interference in accordance with the provisions of § 80.70(a).

(c) AMTS frequencies may be used for mobile-to-mobile communications if written consent is obtained from all affected licensees.

[FR Doc. 02-18372 Filed 7-24-02; 8:45 am]

BILLING CODE 6712-01-P